DEPARTMENT OF THE INTERIOR

National Park Service

[NPS-WASO-NAGPRA-NPS0037669; PPWOCRADN0-PCU00RP14.R50000]

Notice of Inventory Completion: Florida Department of Transportation, Tallahassee, FL

AGENCY: National Park Service, Interior.

ACTION: Notice.

SUMMARY: In accordance with the Native American Graves Protection and Repatriation Act (NAGPRA), the Florida Department of Transportation has completed an inventory of human remains and associated funerary objects and has determined that there is a cultural affiliation between the human remains and associated funerary objects and Indian Tribes or Native Hawaiian organizations in this notice.

DATES: Repatriation of the human remains and associated funerary objects in this notice may occur on or after May 8, 2024.

ADDRESSES: Jennifer Marshall, Florida Department of Transportation, 605 Suwannee Street, Tallahassee, FL 32399, telephone (850) 414-4316, email Jennifer.Marshall@dot.state.fl.us.

SUPPLEMENTARY INFORMATION: This notice is published as part of the National Park Service's administrative responsibilities under NAGPRA. The determinations in this notice are the sole responsibility of the Florida Department of Transportation, and additional information on the determinations in this notice, including the results of consultation, can be found in the inventory or related records. The National Park Service is not responsible for the determinations in this notice.

Abstract of Information Available

Based on the information available, human remains representing, at least, three individuals have been reasonably identified. The 3,702 associated funerary objects are 3,352 ceramic sherds, 185 seed beads, 144 lithic flakes, 10 glass sherds, seven metal fragments, one shell, and three other objects. These remains were identified during a 1999 Phase II excavation project along SR 92 in Osceola County Florida. Due to the agricultural use of the land in more recent history, the remains are highly fragmented and therefore did not receive pathological analysis. It does not appear that any Chapter 872 FS case or repatriation effort was initiated for the remains collected.

Cultural Affiliation

Based on the information available and the results of consultation, cultural affiliation is clearly identified by the information available about the human remains and associated funerary objects described in this notice.

Determinations

The Florida Department of Transportation has determined that:

• The human remains described in this notice represent the physical remains of three individuals of Native American ancestry.

• The 3,702 objects described in this notice are reasonably believed to have been placed intentionally with or near individual human remains at the time of death or later as part of the death rite or ceremony.

• There is a reasonable connection between the human remains and associated funerary objects described in this notice and the Seminole Tribe of Florida.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after May 8, 2024. If competing requests for repatriation are received, the Florida Department of Transportation must determine the most appropriate requestor prior to repatriation. Requests for joint repatriation of the human remains and associated funerary objects are considered a single request and not competing requests. The Florida Department of Transportation is responsible for sending a copy of this notice to the Indian Tribes and Native Hawaiian organizations identified in this notice.

Authority: Native American Graves Protection and Repatriation Act, 25 U.S.C. 3003, and the implementing regulations, 43 CFR 10.10.

Dated: March 22, 2024.
Melanie O'Brien,
Manager, National NAGPRA Program.

[FR Doc. 2024-07356 Filed 4-5-24; 8:45 am]

BILLING CODE 4312-52-P